DEPARTMENT OF THE TREASURY

United States Mint

Pricing for 2010 United States Mint America the Beautiful Quarters Proof Set, etc.

AGENCY: United States Mint, Department of the Treasury.

ACTION: Notice.

SUMMARY: The United States Mint is announcing the prices of the 2010 United States Mint America the Beautiful Quarters Proof Set; 2010 United States Mint America the Beautiful Quarters Silver Proof Set; 2010 United States Mint Uncirculated Coin Set; 2010 United States Mint Proof Set; and 2010 United States Mint Silver Proof Set.

The 2010 United States Mint America the Beautiful Quarters Proof Set will be priced at $14.95.

The 2010 United States Mint America the Beautiful Quarters Silver Proof Set will be priced at $32.95.

The 2010 United States Mint Uncirculated Coin Set will be priced at $31.95.

The 2010 United States Mint Proof Set will be priced at $31.95.

The 2010 United States Mint Silver Proof Set will be priced at $56.95.

The release dates for these sets will be available on the United States Mint Web site at www.usmint/catalog.

FOR FURTHER INFORMATION CONTACT: B. B. Craig, Associate Director for Sales and Marketing; United States Mint; 801 9th Street, NW., Washington, DC 20220; or call 202-354-7500.

Authority: 31 U.S.C. 5111, 5112 & 9701.

Dated: February 26, 2010.
Edmund C. Moy,
Director, United States Mint.

[FR Doc. 2010-4534 Filed 3-4-10; 8:45 am]

BILLING CODE P